SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22(f) for the time period specified above:

Approvals by Rule Issued Under 18 CFR 806.22(f)

1. Cabot Oil & Gas Corporation, Pad ID: BurkeG P1, ABR-201808001; Auburn Township, Susquehanna County, Pa.; Consumptive Use of Up to 5.0000 mgd; Approval Date: August 15, 2018.

2. Cabot Oil & Gas Corporation, Pad ID: HauserJ P1, ABR-201808002; Springville Township, Susquehanna County, Pa.; Consumptive Use of Up to 5.0000 mgd; Approval Date: August 15, 2018.

3. Chief Oil & Gas, LLC, Pad ID: Rogers Drilling Pad, ABR-201401006.R1; Lenox Township, Susquehanna County, Pa.; Consumptive Use of Up to 2.5000 mgd; Approval Date: August 15, 2018.

4. Cabot Oil & Gas Corporation, Pad ID: BiniewiczS P1, ABR-201308001.R1; Gibson and Harford Townships, Susquehanna County, Pa.; Consumptive Use of Up to 5.0000 mgd; Approval Date: August 15, 2018.

5. Cabot Oil & Gas Corporation, Pad ID: KeevesJ P1, ABR-201308003.R1; Brooklyn Township, Susquehanna County, Pa.; Consumptive Use of Up to 5.0000 mgd; Approval Date: August 15, 2018.

6. Cabot Oil & Gas Corporation, Pad ID: BennettC P1, ABR-201308008.R1; Jessup Township, Susquehanna County, Pa.; Consumptive Use of Up to 5.0000 mgd; Approval Date: August 15, 2018.

7. Cabot Oil & Gas Corporation, Pad ID: MarchoW&M P1, ABR-201308009.R1; Gibson Township, Susquehanna County, Pa.; Consumptive Use of Up to 5.0000 mgd; Approval Date: August 15, 2018.

8. Cabot Oil & Gas Corporation, Pad ID: MeadB P1, ABR-201308013.R1; Bridgewater Township, Susquehanna County, Pa.; Consumptive Use of Up to 5.0000 mgd; Approval Date: August 15, 2018.

9. Cabot Oil & Gas Corporation, Pad ID: PayneD P1, ABR-201308014.R1; Harford Township, Susquehanna County, Pa.; Consumptive Use of Up to 5.0000 mgd; Approval Date: August 15, 2018.

10. Range Resources—Appalachia, LLC, Pad ID: Laurel Hill 9H-11H, ABR-201308010.R1; Cogan House Township, Lycoming County, Pa.; Consumptive Use of Up to 1.0000 mgd; Approval Date: August 16, 2018.

11. Range Resources—Appalachia, LLC, Pad ID: Dog Run HC Unit 4H-6H, ABR-201308011.R1; Cummings Township, Lycoming County, Pa.; Consumptive Use of Up to 1.0000 mgd; Approval Date: August 16, 2018.

12. SWN Production Company, LLC, Pad ID: Heckman Hiduk (Pad GS), ABR-201310003.R1; Herrick and Stevens Townships, Bradford County, Pa.; Consumptive Use of Up to 4.9990 mgd; Approval Date: August 28, 2018.

13. Repsol Oil & Gas USA, LLC, Pad ID: DCNR 594 (02 207), ABR-201808003; Bloss and Liberty Townships, Tioga County, Pa.; Consumptive Use of Up to 6.0000 mgd; Approval Date: August 28, 2018.

Authority: Pub. L. 91-575, 84 Stat. 1509 et seq., 18 CFR parts 806, 807, and 808.

Dated: October 10, 2018.
Stephanie L. Richardson,
Secretary to the Commission.

[FR Doc. 2018-22402 Filed 10-12-18; 8:45 am]

BILLING CODE 7040-01-P